ENVIRONMENTAL PROTECTION AGENCY

[FRL-9949-83-Region 4]

Public Water System Supervision Program Revision for the State of Florida

AGENCY: Environmental Protection Agency (EPA).

ACTION: Notice of tentative approval.

SUMMARY: Notice is hereby given that the State of Florida is revising its approved Public Water System Supervision Program. Florida has adopted the following rules: Stage 2 Disinfectants and Disinfection Byproducts Rule, Long Term 2 Enhanced Surface Water Treatment Rule, and Ground Water Rule. The Environmental Protection Agency (EPA) has determined that Florida's rules are no less stringent than the corresponding federal regulations. Therefore, EPA is tentatively approving this revision to the State of Florida's Public Water System Supervision Program.

DATES: Any interested person may request a public hearing. A request for a public hearing must be submitted by August 29, 2016, to the Regional Administrator at the EPA Region 4 address shown below. The Regional Administrator may deny frivolous or insubstantial requests for a hearing. However, if a substantial request for a public hearing is made by August 29, 2016, a public hearing will be held. If no timely and appropriate request for a hearing is received and the Regional Administrator does not elect to hold a hearing on her own motion, this tentative approval shall become final and effective on August 29, 2016. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8:30 a.m. and 4:30 p.m., Monday through Friday, at the following offices: Florida Department of Environmental Protection, Drinking Water and Aquifer Protection Program, 2600 Blair Stone Road, Tallahassee, Florida 32399; and the U.S. Environmental Protection Agency, Region 4, Drinking Water Section, 61 Forsyth Street SW., Atlanta, Georgia 30303.

FOR FURTHER INFORMATION CONTACT: Dale Froneberger, EPA Region 4, Drinking Water Section, by mail at the Atlanta address given above, by telephone at (404) 562-9446, or by email at froneberger.dale@epa.gov.

SUPPLEMENTARY INFORMATION: On March 20, 2013, the State of Florida submitted requests that EPA Region 4 approve a revision to the State's Safe Drinking Water Act Public Water System Supervision Program to include the authority to implement and enforce the Stage 2 Disinfectants and Disinfection Byproducts Rule, the Long Term 2 Enhanced Surface Water Treatment Rule, and the Ground Water Rule. For the requests to be approved, EPA must find the state rules codified at Chapters 62-550 and 62-560, F.A.C., to be no less stringent than the federal rules codified at 40 CFR part 141, subpart A—General; 40 CFR part 141, subpart C—Monitoring and Analytical Requirements; 40 CFR part 141, subpart D—Reporting and Recordkeeping; 40 CFR part 141, subpart G—Maximum Contaminant Levels and Maximum Residual Disinfectant Levels; 40 CFR part 141, subpart L—Disinfectant Residuals, Disinfection Byproducts, and Disinfection Byproduct Precursors; 40 CFR part 141, subpart O—Consumer Confidence Reports; 40 CFR part 141, subpart Q—Public Notification of Drinking Water Violations; 40 CFR part 141, subpart S—Ground Water Rule; 40 CFR part 141, subpart U—Initial Distribution System Evaluations; 40 CFR part 141, subpart V—Stage 2 Disinfection Byproducts Requirements; and 40 CFR part 141, subpart W—Enhanced Treatment for Cryptosporidium. EPA reviewed the applications using the federal statutory provisions (Section 1413 of the Safe Drinking Water Act), federal regulations (at 40 CFR part 142), state regulations, rule crosswalks, and EPA regulatory guidance to determine whether the requests for revision are approvable. EPA determined that the Florida regulations are no less stringent than the corresponding federal regulations and is tentatively approving this revision. If EPA does not receive a timely and appropriate request for a hearing and the Regional Administrator does not elect to hold a hearing on her own motion, this approval will become final and effective on August 29, 2016.

Authority: Section 1413 of the Safe Drinking Water Act, as amended (1996), and 40 CFR part 142.

Dated: June 1, 2016.
Heather McTeer Toney,
Regional Administrator, Region 4.

[FR Doc. 2016-17898 Filed 7-27-16; 8:45 am]

BILLING CODE 6560-50-P